DEPARTMENT OF THE TREASURY

Internal Revenue Service

26 CFR Part 1

[REG-146893-02; REG-115037-00; REG-138603-03]

RIN 1545-BB31, 1545-AY38, 1545-BC52

Treatment of Services Under Section 482 Allocation of Income and Deductions From Intangibles Stewardship Expense; Correction

AGENCY: Internal Revenue Service (IRS), Treasury.

ACTION: Correction to notice of proposed rulemaking by cross-reference to temporary regulations, notice of proposed rulemaking, and notice of public hearing.

SUMMARY: This document contains corrections to a notice of proposed rulemaking by cross-reference to temporary regulations, notice of proposed rulemaking, and notice of public hearing that was published in the Federal Register on Friday, August 4, 2006 (71 FR 44247) relating to the treatment of controlled services transactions under section 482. These regulations also provide guidance regarding the allocation of income from intangibles, in particular with respect to contributions by a controlled party to the value of an intangible owned by another controlled party, as it relates to controlled services transactions, and modify the regulations under section 861 concerning stewardship expenses to be consistent with the changes made to the regulations under section 482.

FOR FURTHER INFORMATION CONTACT: Thomas A. Vidano, (202) 435-5265, or Carol B. Tan (202) 435-5159, for matters relating to section 482, and David F. Bergkuist, (202) 622-3850, for matters relating to stewardship expenses (not toll-free numbers).

SUPPLEMENTARY INFORMATION:

Background

The notice of proposed rulemaking (REG-146893-02, REG-115037-00 and REG-138603-03) by cross-reference to temporary regulations that is the subject of this correction is under section 482 and 861 of the Internal Revenue Code.

Need for Correction

As published, the notice of proposed rulemaking (REG-146893-02, REG-115037-00 and REG-138603-03) by cross-reference to temporary regulations contains errors that may prove to be misleading and are in need of clarification.

Correction of Publication

Accordingly, the notice of proposed rulemaking (REG-146893-02, REG-138603-03 and REG-115037-00) by cross-reference to temporary regulations that were the subject of FR Doc. 06-6674, is corrected as follows:

1. On page 44247, column 2, in the heading, the subject “Treatment of Services Under Section 482 Allocation of Income and Deductions From Intangibles Stewardship Expense” is corrected to read, “Treatment of Services Under Section 482; Allocation of Income and Deductions From Intangibles; and Apportionment of Stewardship Expense”.

2. On page 44248, column 2, instructional Par. 3., number 2 is corrected to read as follows:

“2. Paragraphs (d)(3)(ii)(C), Example 4, Example 5, Example 6 and (j)(6) are added.”

§ 1.482-1 [Corrected]

3. On page 44248, column 3, § 1.482-1(j), lines 2 and 3, the language “amendment to § 1.482-1(j) is the same as the text of § 1.482-1T(j)(1) and (2)” is corrected to read “amendment to § 1.482-1(j)(6) is the same as the text of § 1.482-1T(j)(6)”.

§ 1.482-8 [Corrected]

4. On page 44249, column 2, § 1.482-8(a), line 1, the language “(a) Example 10. Cost of services plus” is corrected to read “(b) * * * Example 10. Cost of services plus”.

5. On page 44249, column 2, § 1.482-8, paragraph (b) following Example 12. is removed.

§ 1.482-9 [Corrected]

6. On page 44249, column 2, § 1.482-9(m)(6), last line, the language “operation as defined in § 1.482-8” is corrected to read “operation as defined in the proposed § 1.482-8.”.

§ 1.861-8 [Corrected]

7. On page 44249, column 3, § 1.861-8(f)(4), line 3, the language “same as the text of § 1.861-8T(c)(4)(i)” is corrected to read “same as the text of § 1.861-8T(f)(4)(i)”.

8. On page 44249, column 3, § 1.861-8(h), line 3, the language “as the text of § 1.861-8T(h)(1) published” is corrected to read “as the text of § 1.861-8T(h) published”.

Cynthia Grigsby,
Senior Federal Register Liaison Officer, Legal Processing Division, Associate Chief Counsel (Procedure and Administration).

[FR Doc. E6-21909 Filed 12-21-06; 8:45 am]

BILLING CODE 4830-01-P